DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Uncompensated Services Assurance Report (OMB No. 0915-0077)—Extension

Under the Hill-Burton Act, the Government provides grants and loans for construction or renovation of health care facilities. As a condition of receiving this construction assistance, facilities are required to provide services to persons unable to pay. A condition of receiving this assistance requires facilities to provide assurances periodically that the required level of uncompensated care is being provided, and that certain notification and record keeping procedures are being followed. These requirements are referred to as the uncompensated services assurance.

Estimate Of Information Collection Burden
Type of requirement and regulatory citation | No. of respondents | Responses per respondent | Total responses | Hours per response | Total hour burden
Disclosure Burden (42 CFR)
Published Notices (124.504(c)) | 206 | 1 | 206 | 0.17 | 35
Individual Notices (124.504(c)) | 206 | 1 | 206 | 35.5 | 7,313
Determinations of Eligibility (124.507) | 206 | 396 | 81,576 | 0.37 | 30,183
Subtotal Disclosure Burden |  |  |  |  | 37,531
Reporting
Uncompensated Services Report B HRSA-710 Form (124.509(a)) | 10 | 1 | 10 | 11.0 | 110
Application for Compliance Alternatives:
Public Facilities (124.513) | 4 | 1 | 4 | 6.0 | 24
Small Obligation Facilities (124.514(c)) | 0 |  |  |  |
Charitable Facilities (124.516(c)) | 2 | 1 | 2 | 6.0 | 12
Annual Certification for Compliance Alternatives:
Public Facilities (124.509(b)) | 144 | 1 | 144 | 0.5 | 72
Charitable Facilities (124.509(b)) | 28 | 1 | 28 | 0.5 | 14
Small Obligation Facilities (124.509(c)) | 1 | 1 | 1 | 0.5 | 1
Complaint Information (124.511(a)):
Individuals | 10 | 1 | 10 | 0.25 | 3
Facilities | 10 | 1 | 10 | 0.5 | 5
Subtotal Reporting Burden |  |  |  |  | 241

Recordkeeping | Number of record keepers | Hours per year | Total hour burden
Non-alternative Facilities (124.510(a)) | 206 | 50 | 10,300
Subtotal Recordkeeping Burden |  |  | 10,300

The total burden for this project is estimated to be 48,072 hours.

Written comments and recommendations concerning the proposed information collection should be sent within 60 days of this notice to: Susan G. Queen, Ph.D., HRSA Reports Clearance Officer, Parklawn Building Room 10-33, Health Resources and Services Administration, 5600 Fishers Lane, Rockville, MD 20857.

Dated: October 25, 2005.
Tina M. Cheatham,
Director, Division of Policy Review and Coordination.

[FR Doc. 05-21643 Filed 10-31-05; 8:45 am]

BILLING CODE 4165-15-P